DEPARTMENT OF STATE

[Public Notice 8248]

In the Matter of the Designation of Ansar al-Dine Also Known as Ansar Dine Also Known as Ansar al-Din Also Known as Ancar Dine Also Known as Ansar ul-Din Also Known as Ansar Eddine Also Known as Defenders of the Faith as a Foreign Terrorist Organization Pursuant to Section 219 of the Immigration and Nationality Act, as Amended

Based upon a review of the Administrative Record assembled in this matter and in consultation with the Attorney General and the Secretary of the Treasury, I conclude that there is a sufficient factual basis to find that the relevant circumstances described in section 219 of the Immigration and Nationality Act, as amended (hereinafter “INA”) (8 U.S.C. 1189), exist with respect to Ansar al-Dine, also known as Ansar Dine, also known as Ansar al-Din, also known as Ancar Dine, also known as Ansar ul-Din, also known as Ansar Eddine, also known as Defenders of the Faith.

Therefore, I hereby designate the aforementioned organization and its aliases as a Foreign Terrorist Organization pursuant to section 219 of the INA.

This determination shall be published in the Federal Register.

Dated: March 11, 2013.
John F. Kerry,
Secretary of State.

[FR Doc. 2013-06648 Filed 3-21-13; 8:45 am]

BILLING CODE 4710-10-P